DEPARTMENT OF ENERGY

Federal Energy Regulatory Commission

[Docket No. RP00-17-002]

Transcontinental Gas Pipe Line Corporation; Notice of Tariff Filing

July 11, 2000.

Take notice that on June 30, 2000, Transcontinental Gas Pipe Line Corporation (Transco) tendered for filing as part of its FERC Gas Tariff, Third Revised Volume No. 1, certain revised tariff sheets listed on Appendix A attached to the filing. Such tariff sheets are proposed to be effective September 1, 2000.

Transco states that the purpose of the instant filing is to implement Transco's proposal in the referenced docket to limit capacity usage to the extent that combined nominations of releasing and replacement shippers in a segment exceed the releasing shipper's original firm capacity entitlement, consistent with the Commission's November 12, 1999 “Order on Pro Forma Tariff Sheets Establishing Technical Conference” in the referenced docket (“November 12 Order”). In order to implement its proposal, Transco also is filing to remove the Rate Schedules FT-R and FTN-R Commodity Form of Service Agreement from its Tariff and make changes to its Rate Schedules FT-R and FTN-R Demand Form of Service Agreement to reflect that removal.

Transco states that it is serving copies of the instant filing to the affected customers, State Commissions and other interested parties.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17963 Filed 7-14-00; 8:45 am]

BILLING CODE 6717-01-M